DEPARTMENT OF AGRICULTURE

Economic Research Service

Notice of Intent To Request New Information Collection

AGENCY: Economic Research Service, USDA.

ACTION: Notice of information collection; request for comments.

SUMMARY: In accordance with the Paperwork Reduction Act of 1995, this notice announces the U.S. Department of Agriculture's (USDA) intention to request approval for a Field Test for a new information collection for a Second National Household Food Acquisition and Purchase Survey (FoodAPS-2) also called the National Food Study among American households.

DATES: Written comments must be received by January 3, 2022 to be assured of consideration.

ADDRESSES: All comments should be submitted electronically to Jeffrey.Gonzalez@usda.gov.

FOR FURTHER INFORMATION CONTACT: For specific questions related to this information collection, contact Jeffrey Gonzalez, 202-694-5341, Jeffrey.Gonzalez@usda.gov.

SUPPLEMENTARY INFORMATION: The Department of Agriculture's Economic Research Service, in accordance with the Paperwork Reduction Act of 1995 (Pub. L. 104-13), provides the general public and Federal agencies with an opportunity to comment on proposed, revised, and continuing collections of information. This helps the Economic Research Service (ERS) assess the impact of its information collection requirements and minimize the public's reporting burden. It also helps the public understand the ERS's information collection requirements and provide the required data in the desired format. ERS is soliciting comments on the proposed information collection requirement (ICR) that is described below. Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Please note that written comments received in response to this notice will be considered public records.

Title of Collection: The Second National Household Food Acquisition and Purchase Survey (FoodAPS-2) Field Test.

OMB Control Number: To be assigned by OMB.

Expiration Date: Three years from the date of approval.

Type of Request: New information collection.

Abstract: The Field Test for FoodAPS-2, also known as the National Food Study to respondents in the field, will be conducted over a four-month period. The Field Test will collect data from 4,125 households, including households participating in the Supplemental Nutrition Assistance Program (SNAP, formerly the Food Stamp Program) and the Special Supplemental Nutrition Program for Women, Infants, and Children (WIC). Each participating household will be asked to log the foods they get over a 7-day period.

FoodAPS-2 data are necessary to understand Americans' food and nutrition choices, the drivers of these choices, and how the government can improve administration of public programs at reasonable cost to better the health and well-being of the American population. The data will reveal precise and detailed information on: (1) Food purchased for preparation at home and away from home; (2) food people get for free; (3) food that each member of the household gets; (4) the nutrient content of food items people get; (5) the cost of these foods and how people pay for them (e.g., cash, credit or debit, program benefits, coupons and discounts); (6) market, demographic, policy and program characteristics of local areas where people get their food; (7) household characteristics, including income, participation in Federal food assistance programs, food security, and health status; and (8) the complex interrelationship between food, nutrition, economics, program participation, food environments, and health.

The U.S. Department of Agriculture (USDA) collected similar data in 2012-2013 with the first National Household Food Acquisition and Purchase Survey (FoodAPS-1, OMB Control Number 0536-0068). (See the results at https://www.ers.usda.gov/foodaps). The expected time between FoodAPS-1 and the FoodAPS-2 Field Test will be about 10 years, during which time the structure of the U.S. food economy will have changed dramatically. American households get their food from a large variety of places, including: Grocery stores, big box stores, farmers' markets, food pantries, dine-in restaurants, fast food restaurants, schools, online retailers, and other food outlets. Food acquisition behaviors have changed in response to changing markets, household structure, labor force participation, and other factors. There is special interest in food demand among low-income households. At some point during each year, about 1 in 4 Americans participate in at least one of USDA's 15 domestic food and nutrition assistance programs. To evaluate the efficiency of the programs, USDA needs to better understand the food acquisition behavior of program participants compared to low-income, program-eligible, non-participating households. Neighborhoods that lack access to healthy and affordable food have been of particular concern for USDA. To this end, USDA needs current, accurate data on household food acquisitions, food insecurity, food prices, and the availability of healthful and less-healthful foods.

The main objective of the Field Test is to test the final design and procedures for the Full Survey data collection. Specifically, the Field Test will evaluate the following: A mail screener to reduce in-person screening; enhancements to the data collection instruments that assess drivers of food acquisition behavior; a new native smartphone application; an alternative web-based Food Log using a barcode scanner, for households who are unable to use the smartphone app; a telephone mode option for households who are unable to use either the smartphone app or the web-based method; and monetary incentives to encourage Food Log reporting throughout the 7-day period.

All sampled households will receive a $5 incentive to complete a mail screener questionnaire. All households completing an in-person screening interview to determine eligibility for the study will receive $5. All recruited households will receive $40 upon completion of the Initial Interview and Food Log training. $2 will be provided to each household member age 16 and over who completes the Income Worksheet (available online and via the app) and another $2 per person age 11 and over for completing the Profile Questionnaire (available online and via the app). An additional $16 incentive will be provided to the primary respondent after completion of a Debriefing Interview at the end of the reporting period.

In addition, an incentives experiment is embedded in the Field Test. The incentives experiment varies the amount of a promised monetary incentive that each eligible household member who reports both their food purchases and the food they get for free (including affirmation of no food) can accumulate per day ($5 per day per eligible member vs. $5 for days 1-3 and $10 for days 4-7). The final incentive scheme for the Full Survey will be determined by the results of Field Test.

Responses will be combined for statistical purposes and reported only in aggregate or statistical form. Because this is a field test for the full-scale FoodAPS-2 data collection, there are no plans to make the collected data available to the public. The data will be analyzed and used to finalize design and data collection protocol for the Full Survey.

Authority: Legislative authority for the planned data collection is Section 17 (a) (1) of the Food and Nutrition Act of 2008 (7 U.S.C. 2026). This section authorizes the Secretary to undertake research that will help improve the administration and effectiveness of programs providing nutrition benefits.

Confidentiality: All respondent information collected during the Field Test will be protected under the statute of the Confidential Information Protection and Statistical Efficiency Act of 2002 (CIPSEA), (Title V of Pub. L. 107-347).

Type of Respondents: Individuals and households.

Estimate of Burden: The estimated total number of respondents for this study is 4,125 contacted households and 4,650 responding individuals. The estimated total annual burden on respondents is 3,201 hours.

BILLING CODE 3410-18-P

Spiro Stefanou,
Administrator, Economic Research Service.

[FR Doc. 2021-23655 Filed 10-29-21; 8:45 am]

BILLING CODE 3410-18-C